DEPARTMENT OF COMMERCE

National Oceanic and Atmospheric Administration

Availability of Diving Operations, Recreational Fishing, Research, Conservation, and Education Seats for the Flower Garden Banks National Marine Sanctuary Advisory Council

AGENCY: National Marine Sanctuary Program (NMSP), National Ocean Service (NOS), National Oceanic and Atmospheric Administration, Department of Commerce (DOC).

ACTION: Notice to extend the application deadline and request for applications. Notice of opening of an additional Advisory Council seat.

SUMMARY: The Flower Garden Banks National Marine Sanctuary (FGBNMS or Sanctuary) is seeking applicants for the of Diving Operations, Recreational Fishing, Research, Conservation and Education seats on its Sanctuary Advisory Council (Council). Applicants are chosen based upon their particular expertise and experience in relation to the seat for which they are applying; community and professional affiliations; philosophy regarding the protection and management of marine resources; and possibly the length of residence in the area affected by the Sanctuary. The Applicant chosen as a member should expect to serve a 3-year term, pursuant to the Council's Charter.

DATES: Applications are due by November 7, 2008.

ADDRESSES: Application kits may be obtained from Jennifer Morgan at NOAA-Flower Garden Banks National Marine Sanctuary, 4700 Avenue U, Bldg. 216, Galveston, TX 77551 or downloaded from the sanctuary Web site http://flowergarden.noaa.gov. Completed applications should be sent to the same mailing address.

FOR FURTHER INFORMATION CONTACT: Jennifer Morgan, NOAA-Flower Garden Banks National Marine Sanctuary, 4700 Avenue U, Bldg. 216, Galveston, TX 77551, 409-621-5151 ext. 103, Jennifer.Morgan@noaa.gov.

SUPPLEMENTARY INFORMATION: Located in the northwestern Gulf of Mexico, the Flower Garden Banks National Marine Sanctuary includes three separate areas, known as East Flower Garden, West Flower Garden, and Stetson Banks. The Sanctuary was designated on January 17, 1992. Stetson Bank was added to the Sanctuary in 1996. The Sanctuary Advisory Council will consist of no more than 11 members; 8 non-governmental voting members and 3 governmental non-voting members. The Council may serve as a forum for consultation and deliberation among its members and as a source of advice to the Sanctuary manager regarding the management of the Flower Garden Banks National Marine Sanctuary.

Authority: 16 U.S.C. 1431, et seq.

(Federal Domestic Assistance Catalog Number 11.429 Marine Sanctuary Program)

Daniel J. Basta,
Director, Office of National Marine Sanctuaries, National Oceanic and Atmospheric Administration.

[FR Doc. E8-25708 Filed 10-27-08; 8:45 am]

BILLING CODE 3510-NK-M